NATIONAL AERONAUTICS AND SPACE ADMINISTRATION

[Notice (02-055)]

Notice of Prospective Patent License

AGENCY: National Aeronautics and Space Administration.

ACTION: Notice of prospective patent license.

SUMMARY: NASA hereby gives notice that Tietronix Software, Inc., having offices in Houston, Texas, has applied for a partially exclusive license to practice the inventions described and claimed in pending U.S. Patent Application entitled “System and Method for Dynamic Optical Filtration (DOFS),” NASA Case No. MSC23037-1, and any continuations, divisional applications, and foreign applications corresponding to the above-listed cases. The above-identified patent application is assigned to the United States of America as represented by the Administrator of the National Aeronautics and Space Administration. Written objections to the prospective grant of a license should be sent to the Johnson Space Center.

DATES: Responses to this notice must be received by May 24, 2002.

FOR FURTHER INFORMATION CONTACT: James Cate, Patent Attorney, NASA Johnson Space Center, Mail Stop HA, Houston, TX 77058-8452; telephone (281) 483-1001.

Dated: May 2, 2002.
Robert M. Stephens,
Deputy General Counsel.

[FR Doc. 02-11624 Filed 5-8-02; 8:45 am]

BILLING CODE 7510-01-P